DEPARTMENT OF TRANSPORTATION

Federal Aviation Administration

14 CFR Part 39

[Docket No. FAA-2006-24120; Directorate Identifier 2006-NM-021-AD; Amendment 39-14593; AD 2006-10-09]

RIN 2120-AA64

Airworthiness Directives; Empresa Brasileira de Aeronautica S.A. (EMBRAER) Model EMB-120, -120ER, -120FC, -120QC, and -120RT Airplanes in Operation

AGENCY: Federal Aviation Administration (FAA), Department of Transportation (DOT).

ACTION: Final rule.

SUMMARY: The FAA is adopting a new airworthiness directive (AD) for all Empresa Brasileira de Aeronautica S.A. (EMBRAER) Model EMB-120, -120ER, -120FC, -120QC, and -120RT airplanes in operation. This AD requires replacing the protective tubes and conduits of the wiring harnesses of the refueling vent and pilot valves with non-conductive hoses; modifying the harness wiring and supports; and rerouting the harnesses to prevent interference with adjacent strobe light connectors; as applicable. This AD results from a fuel system review conducted by the manufacturer. We are issuing this AD to prevent a potential source of ignition near a fuel tank, which, in combination with flammable fuel vapors, could result in a fuel tank explosion.

DATES: This AD becomes effective June 20, 2006.

The Director of the Federal Register approved the incorporation by reference of a certain publication listed in the AD as of June 20, 2006.

ADDRESSES: You may examine the AD docket on the Internet at http://dms.dot.gov or in person at the Docket Management Facility, U.S. Department of Transportation, 400 Seventh Street, SW., Nassif Building, Room PL-401, Washington, DC.

Contact Empresa Brasileira de Aeronautica S.A. (EMBRAER), P.O. Box 343—CEP 12.225, Sao Jose dos Campos—SP, Brazil, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Empresa Brasileira de Aeronautica S.A. (EMBRAER) EMB-120( ) airplane models in operation. That NPRM was published in the Federal Register on March 14, 2006 (71 FR 13058). That NPRM proposed to require replacing the protective tubes and conduits of the wiring harnesses of the refueling vent and pilot valves with non-conductive hoses; modifying the harness wiring and supports; and rerouting the harnesses to prevent interference with adjacent strobe light connectors; as applicable.

Comments

We provided the public the opportunity to participate in the development of this AD. We received no comments on the NPRM or on the determination of the cost to the public.

Explanation of Change to Applicability

We have revised the applicability of the existing AD to identify model designations as published in the most recent type certificate data sheet for the affected models.

Conclusion

We have carefully reviewed the available data and determined that air safety and the public interest require adopting the AD with the change described previously. We have determined that this change will neither increase the economic burden on any operator nor increase the scope of the AD.

Costs of Compliance

This AD will affect about 180 airplanes of U.S. registry. The required actions will take between 4 and 24 work hours per airplane, at an average labor rate of $65 per work hour. Required parts will cost between $555 and $6,179 per airplane. Based on these figures, which depend upon airplane configuration, the estimated cost of this AD for U.S. operators is between $146,700 and $1,393,020, or between $815 and $7,739 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-10-09 Empresa Brasileira de Aeronautica S.A. (EMBRAER): Amendment 39-14593. Docket No. FAA-2006-24120; Directorate Identifier 2006-NM-021-AD.

Effective Date

(a) This AD becomes effective June 20, 2006.

Affected ADs

(b) None.

Applicability

(c) This AD applies to all EMBRAER Model EMB-120, -120ER, -120FC, -120QC, and -120RT airplanes in operation, certificated in any category.

Unsafe Condition

(d) This AD results from a fuel system review conducted by the manufacturer. We are issuing this AD to prevent a potential source of ignition near a fuel tank, which, in combination with flammable fuel vapors, could result in a fuel tank explosion.

Compliance

(e) You are responsible for having the actions required by this AD performed within the compliance times specified, unless the actions have already been done.

Rerouting Harnesses and Replacing Harness Conduits

(f) Within 5,000 flight hours after the effective date of this AD, perform the actions specified in paragraph (f)(1) or (f)(2) of this AD, as applicable, in accordance with the Accomplishment Instructions of EMBRAER Service Bulletin 120-28-0014, Revision 01, dated November 4, 2004.

(1) For Group I airplanes as identified in paragraph 1.1.1(a) or for Group II airplanes as identified in paragraph 1.1.1(b) of the service bulletin, as applicable: Modify the supports and wiring of the refueling vent and pilot valves wiring harnesses; reroute the harnesses to prevent interference with adjacent strobe light connectors; and replace the protective tubes and conduits of the harnesses with non-conductive hoses; in accordance with Part I of the Accomplishment Instructions of the service bulletin.

(2) For all remaining airplanes as identified in paragraph 1.1.2 of the service bulletin: Replace the protective tubes of the wiring harnesses of the refueling vent and pilot valves with non-conductive hoses; in accordance with Part II of the Accomplishment Instructions of the service bulletin.

Credit for Prior Revision of Service Information

(g) Actions accomplished before the effective date of this AD in accordance with EMBRAER Service Bulletin 120-28-0014, dated April 19, 2004, are considered acceptable for compliance with the corresponding requirements of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Brazilian airworthiness directive 2005-12-04, effective January 19, 2006, also addresses the subject of this AD.

Material Incorporated by Reference

(j) You must use EMBRAER Service Bulletin 120-28-0014, Revision 01, dated November 4, 2004, to perform the actions that are required by this AD, unless the AD specifies otherwise. The Director of the Federal Register approved the incorporation by reference of this document in accordance with 5 U.S.C. 552(a) and 1 CFR part 51. EMBRAER Service Bulletin 120-28-0014, Revision 01, dated November 4, 2004, contains the following effective pages:

Page No. | Revision level shown on page | Date shown on page
1-4 | 01 | Nov. 4, 2004.
5-71 | Original | April 19, 2004.

Contact Empresa Brasileira de Aeronautica S.A. (EMBRAER), P.O. Box 343—CEP 12.225, Sao Jose dos Campos—SP, Brazil, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 8, 2006.
Ali Bahrami,
Manager, Transport Airplane Directorate, Aircraft Certification Service.

[FR Doc. 06-4502 Filed 5-15-06; 8:45 am]

BILLING CODE 4910-13-P